DEPARTMENT OF ENERGY

Federal Energy Regulatory Commission

Combined Notice of Filings #1

Take notice that the Commission received the following electric rate filings:

Docket Numbers: ER10-1246-006; ER10-1982-007; ER10-1253-006; ER10-1252-006; ER13-764-006; ER12-2498-006; ER12-2499-006.

Applicants: Consolidated Edison Energy, Inc., Consolidated Edison Company of New York, Inc., Consolidated Edison Solutions, Inc., Orange and Rockland Utilities, Inc., Alpaugh 50, LLC, Alpaugh North, LLC, CED White River Solar, LLC.

Description: Notice of non-material change in status of Consolidated Edison Energy, Inc., et al.

Filed Date: 11/19/13.

Accession Number: 20131119-5040.

Comments Due: 5 p.m. E.T. 12/10/13.

Docket Numbers: ER14-50-000.

Applicants: Public Service Company of Colorado.

Description: 2013-11-18_PSC-Multi-T-Fac-350-0.0.0 EXB-M -Supp Record.doc to be effective N/A.

Filed Date: 11/18/13.

Accession Number: 20131118-5141.

Comments Due: 5 p.m. E.T. 12/9/13.

Docket Numbers: ER14-172-001.

Applicants: ISO New England Inc.

Description: ISO New England Inc. submits Amendment to Conforming Sections to be effective 10/7/2013.

Filed Date: 11/19/13.

Accession Number: 20131119-5044.

Comments Due: 5 p.m. E.T. 12/10/13.

Docket Numbers: ER14-421-000.

Applicants: Midcontinent Independent System Operator, Inc.

Description: Midcontinent Independent System Operator, Inc. submits 2013-11-18 Re-collation Filing to be effective 11/19/2013.

Filed Date: 11/18/13.

Accession Number: 20131118-5114.

Comments Due: 5 p.m. E.T. 12/9/13.

Docket Numbers: ER14-422-000.

Applicants: Midcontinent Independent System Operator, Inc.

Description: 2013-11-18 Re-Collation Filing to be effective 11/19/2013.

Filed Date: 11/18/13.

Accession Number: 20131118-5186.

Comments Due: 5 p.m. E.T. 12/9/13.

Docket Numbers: ER14-423-000.

Applicants: MidAmerican Energy Company.

Description: Engineering & Procurement—Macksburg to be effective 11/18/2013.

Filed Date: 11/18/13.

Accession Number: 20131118-5142.

Comments Due: 5 p.m. E.T. 12/9/13.

Docket Numbers: ER14-424-000.

Applicants: Pennsylvania Electric Company, The Potomac Edison Company, West Penn Power Company, PJM Interconnection, L.L.C.

Description: PJM, Penelec et al. submit Grandfathered & First Revised FE Service Agreements to be effective 12/31/2050.

Filed Date: 11/18/13.

Accession Number: 20131118-5194.

Comments Due: 5 p.m. E.T. 11/29/13.

Docket Numbers: ER14-425-000.

Applicants: Midcontinent Independent System Operator, Inc.

Description: Midcontinent Independent System Operator, Inc. submits Agreements Re-Collation Part 1 to be effective 11/20/2013.

Filed Date: 11/19/13.

Accession Number: 20131119-5056.

Comments Due: 5 p.m. E.T. 12/10/13.

Docket Numbers: ER14-425-002.

Applicants: Midcontinent Independent System Operator, Inc.

Description: Midcontinent Independent System Operator, Inc. submits 11-19-13 Agreements Re-Collation Part 3 to be effective 11/20/2013.

Filed Date: 11/19/13.

Accession Number: 20131119-5070.

Comments Due: 5 p.m. E.T. 12/10/13.

Docket Numbers: ER14-426-000.

Applicants: Southern California Edison Company.

Description: Southern California Edison Company submits Notice of Cancellation of Letter Agreement with Satsuma Solar to be effective 6/6/2013.

Filed Date: 11/19/13.

Accession Number: 20131119-5061.

Comments Due: 5 p.m. E.T. 12/10/13.

Take notice that the Commission received the following public utility holding company filings:

Docket Numbers: PH14-3-000.

Applicants: Cross & Company, PLLC, Corning Natural Gas Holding Corporation.

Description: Corning Natural Gas Holding Corporation submits FERC 65-A Exemption Notification.

Filed Date: 11/18/13.

Accession Number: 20131118-5210.

Comments Due: 5 p.m. E.T. 12/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2013.
Nathaniel J. Davis, Sr.,
Deputy Secretary.

[FR Doc. 2013-28348 Filed 11-25-13; 8:45 am]

BILLING CODE 6717-01-P